DEPARTMENT OF ENERGY

Federal Energy Regulatory Commission

[Project No. 15001-000]

Navajo Energy Storage Station LLC; Notice of Successive Preliminary Permit Application Accepted for Filing and Soliciting Comments, Motions To Intervene, and Competing Applications

On July 1, 2019, Navajo Energy Storage Station LLC filed an application for a preliminary permit, pursuant to section 4(f) of the Federal Power Act, proposing to study the feasibility of the Navajo Energy Storage Station Pumped Storage Project (Navajo Energy Project or project). The project would be located at the U.S. Bureau of Reclamation's (Reclamation) Lake Powell Reservoir on the Colorado River in San Juan County, Arizona.

The sole purpose of a preliminary permit, if issued, is to grant the permit holder priority to file a license application during the permit term. A preliminary permit does not authorize the permit holder to perform any land-disturbing activities or otherwise enter upon lands or waters owned by others without the owners' express permission.

On August 26, 2019, the Commission asked Reclamation to confirm that non-federal development is authorized at the Lake Powell site. On October 24, 2019, Reclamation responded stating that it retains jurisdiction over hydropower development on the Lake Powell Reservoir, which is part of Reclamation's Colorado River Storage Project. On October 18, 2019, the Commission issued a letter to Navajo Energy Storage Station LLC stating that it agreed with Reclamation's jurisdictional decision over hydropower development at the Lake Powell Reservoir, but that the Commission would retain jurisdiction for hydropower facilities that would be located outside of Reclamation's development. Thus, an entity seeking to build a hydropower project that would use Reclamation's Lake Powell Reservoir would need to obtain a lease of power privilege from Reclamation, but it also would need to obtain a license from the Commission for those facilities of the hydropower project that are not under Reclamation's jurisdiction.

The proposed project would utilize the Bureau of Reclamation's Lake Powell Reservoir, created by the Glen Canyon Dam, for its lower reservoir and would consist of the following new facilities: (1) A 15,150-foot-long, 131-foot-high rockfill concrete dam that would impound an upper reservoir with a usable storage capacity of 18,600 acre feet; (2) vertical intake for the upper reservoir; (3) a shoreline intake for the lower reservoir; (4) an approximately 6,550-foot-long water conveyance structure between the two reservoirs that will include a single 35-foot-diameter headrace tunnel, eight 11-foot-dameter penstocks, eight 15-foot-diameter draft tubes, and two 31-foot-diameter tailrace tunnels; (5) a powerhouse that includes eight variable-speed pump turbine generating units with a combined capacity of 2,210 megawatts; (6) an 18-mile-long, 500-kilovolt transmission line that will connect with the existing 230-kilovolt line owned by Western Area Power Administration; and (7) appurtenant facilities. The estimated annual generation of the Navajo Energy Project would be 3,365 gigawatt-hour.

Applicant Contact: Jim Day, CEO, Daybreak Power Inc., 113 Moore Avenue SW, Vienna, VA 22180; phone: (703) 624-4971.

FERC Contact: Timothy Konnert; phone: (202) 502-6359.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15001-000.

More information about this project, including a copy of the application, can be viewed or printed on the “eLibrary” link of Commission's website at http://www.ferc.gov/docs-filing/elibrary.asp. Enter the docket number (P-15001) in the docket number field to access the document. For assistance, contact FERC Online Support.

Dated: January 14, 2020.
Kimberly D. Bose,
Secretary.

[FR Doc. 2020-00924 Filed 1-21-20; 8:45 am]

BILLING CODE 6717-01-P